NUCLEAR REGULATORY COMMISSION

[NUREG-1600]

Revision of the NRC Enforcement Policy: Correction

AGENCY: Nuclear Regulatory Commission.

ACTION: Policy statement: correction.

SUMMARY: This document corrects a notice appearing in the Federal Register on January 5, 2004 (69 FR 385)), that clarifies that enforcement action may be taken against non-licensees for violations of the Commission's regulations governing the packaging and transportation of radioactive material. This action is necessary to: (1) Include the deadline for submitting comments on the Enforcement Policy revision, which is March 19, 2004 and (2) correct the methods for providing comments.

FOR FURTHER INFORMATION CONTACT: Renée Pedersen, Senior Enforcement Specialist, Office of Enforcement, U.S. Nuclear Regulatory Commission, Washington, DC 20555-0001, at (301) 415-2742 or e-mail rmp@nrc.gov.

SUPPLEMENTARY INFORMATION: 1. The EFFECTIVE DATE entry is corrected to read as follows:

EFFECTIVE DATE: October 1, 2004. Submit comments by March 19, 2004.

2. The ADDRESSES entry is corrected to read as follows:

ADDRESSES: Submit written comments to: Michael T. Lesar, Chief, Rules and Directives Branch, Division of Administrative Services, Office of Administration, Mail Stop: T6D59, U.S. Nuclear Regulatory Commission, Washington, DC 20555-0001. Hand deliver comments to: 11555 Rockville Pike, Rockville, Maryland, between 7:30 a.m. and 4:15 p.m., Federal workdays. Copies of comments received may be examined at the NRC Public Document Room, Room O1F21, 11555 Rockville Pike, Rockville, MD. You may also e-mail comments to nrcrep@nrc.gov.

Dated at Rockville, Maryland, this 11th day of February 2004.
For the Nuclear Regulatory Commission.
Michael T. Lesar,
Federal Register Liaison Officer.

[FR Doc. 04-3442 Filed 2-17-04; 8:45 am]

BILLING CODE 7590-01-P